DEPARTMENT OF HEALTH AND HUMAN SERVICES

Centers for Disease Control and Prevention

National Task Force on Fetal Alcohol Syndrome and Fetal Alcohol Effect

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates: 8:30 a.m.-4:30 p.m., December 8, 2003. 8:30 a.m.-12:30 p.m., December 9, 2003.

Place: Swissotel, 3391 Peachtree Road, NE., Atlanta, Georgia 30326, telephone 404/365-0065, fax 404/365-8787.

Status: Open to the public, limited only by the space available. The meeting room accommodates approximately 65 people.

Purpose: The Secretary is authorized by the Public Health Service Act, Section 399G, (42 U.S.C. Section 280f, as added by Public Law 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters to be Discussed: Agenda items include: Discussions will focus on defining essential services needed for children with FAS and other alcohol-related conditions, strategies for improving access to these services for affected children and families; presentations will include success stories of children with FAS that focus on their strengths. Additional agenda items include: An update on activities from the National Center on Birth Defects and Developmental Disabilities; the Interagency Coordinating Committee on Fetal Alcohol Syndrome; new research and program updates from the CDC and other Federal agencies; working group updates; future topics, and scheduling the next meeting. Agenda items are subject to change as priorities dictate.

FOR FURTHER INFORMATION CONTACT: R. Louise Floyd, DSN, RN, Designated Federal Official, National Center on Birth Defects and Developmental Disabilities, CDC, 1600 Clifton Road, NE., (E-86), Atlanta, Georgia 30333, telephone 404/498-3923, fax 404/498-3040.

The Director, Management Analysis and Services Office, has been delegated the authority to sign Federal Register notices pertaining to announcements of meetings and other committee management activities for both the CDC and ATSDR.

Dated: November 3, 2003.
Joseph E. Salter,
Acting Director, Management Analysis and Services Office, Centers for Disease Control and Prevention.

[FR Doc. 03-28025 Filed 11-6-03; 8:45 am]

BILLING CODE 4163-18-P